FEDERAL COMMUNICATIONS COMMISSION

47 CFR Part 73

[DA 03-191; MM Docket No. 01-21; RM-10050]

Radio Broadcasting Services; Genoa, CO

AGENCY: Federal Communications Commission.

ACTION: Final rule.

SUMMARY: The Commission, at the request of Genoa Broadcasting, allots Channel 288C3 at Genoa, Colorado, as the community's first local aural transmission service. See 66 FR 10659, February 16, 2001. Channel 288C3 can be allotted to Genoa in compliance with the Commission's minimum distance separation requirements with a site restriction of 21.3 kilometers (13.3 miles) northeast to avoid a short-spacing to the licensed site of Station KVAY(FM), Channel 289C1, Lamar, Colorado. The coordinates for Channel at Genoa are 39-23-06 North Latitude and 103-17-38 West Longitude.

DATES: Effective March 24, 2003.

ADDRESSES: Federal Communications Commission, Washington, DC 20554.

FOR FURTHER INFORMATION CONTACT: Sharon P. McDonald, Media Bureau, (202) 418-2180.

SUPPLEMENTARY INFORMATION: This is a synopsis of the Commission's Report and Order, MM Docket No. 01-21, adopted February 5, 2003, and released February 7, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20054.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 54, 303, 334 and 336.

§ 73.202 [Amended]

2. Section 73.202(b), the Table of FM Allotments under Colorado, is amended by adding Genoa, Channel 288C3.

Federal Communications Commission.
John A. Karousos,
Assistant Chief, Audio Division, Media Bureau.

[FR Doc. 03-4367 Filed 2-24-03; 8:45 am]

BILLING CODE 6712-01-P